LEGAL SERVICES CORPORATION

Notice of Intent To Award—Grant Awards for the Delivery of Civil Legal Services to Eligible Low-Income Clients Beginning January 1, 2023

AGENCY: Legal Services Corporation.

ACTION: Announcement of the Legal Services Corporation's intent to make FY2023 Basic Field Grant Awards.

SUMMARY: The Legal Services Corporation (LSC) hereby announces its intention to award grants to provide effective and efficient delivery of high-quality civil legal services to eligible low-income clients, starting January 1, 2023.

DATES: All comments and recommendations must be received on or before the close of business on December 8, 2022.

ADDRESSES: Basic Field Grant Awards, Legal Services Corporation; 3333 K Street NW, Third Floor; Washington, DC 20007.

FOR FURTHER INFORMATION CONTACT: Christine Williams, Program Manager for Basic Field Competition, Office of Program Performance, at (202) 295-1602 or williamsc@lsc.gov.

SUPPLEMENTARY INFORMATION: Under LSC's Notice of Funding Availability published on March 15, 2022 (87 FR 14580) and LSC's grant application process beginning on April 11, 2022, LSC intends to award funds to organizations that provide civil legal services in the indicated service areas. Applicants for each service area are listed below. The grant award amounts below are estimates based on the FY2022 grant awards to each service area. The funding estimates may change based on the final FY2023 appropriation. In addition, Agricultural Worker service area population estimates are subject to change based on Department of Labor review and comments LSC receives during the 30-day comment period.

LSC will post all updates and changes to this notice at https://www.lsc.gov/grants/basic-field-grant/basic-field-awards. Interested parties are asked to visit https://www.lsc.gov/grants/basic-field-grant regularly for updates on the LSC grants process.

Name of applicant organization | State | Service area | Estimated annualized 2023 funding
Legal Services Alabama, Inc | AL | AL-4 | $7,454,847
Alaska Legal Services Corporation | AK | AK-1 | 1,042,623
Alaska Legal Services Corporation | AK | NAK-1 | 708,975
Legal Aid of Arkansas, Inc | AR | AR-6 | 1,854,512
Center for Arkansas Legal Services | AR | AR-7 | 2,778,864
American Samoa Legal Aid | AS | AS-1 | 336,887
Community Legal Services, Inc | AZ | MAZ | 435,645
Community Legal Services, Inc | AZ | AZ-3 | 6,533,307
Southern Arizona Legal Aid, Inc | AZ | AZ-5 | 2,621,118
Southern Arizona Legal Aid, Inc | AZ | NAZ-6 | 835,613
DNA-Peoples Legal Services, Inc | AZ | AZ-2 | 560,745
DNA-Peoples Legal Services, Inc | AZ | NAZ-5 | 3,420,840
California Indian Legal Services, Inc | CA | CA-1 | 38,050
California Indian Legal Services, Inc | CA | NCA-1 | 1,158,200
Greater Bakersfield Legal Assistance, Inc | CA | CA-2 | 1,411,179
Central California Legal Services | CA | CA-26 | 3,522,131
Legal Aid Foundation of Los Angeles | CA | CA-29 | 6,937,384
Neighborhood Legal Services of Los Angeles County | CA | CA-30 | 4,697,790
Inland Counties Legal Services, Inc | CA | CA-12 | 5,389,469
Legal Services of Northern California, Inc | CA | CA-27 | 4,557,419
Legal Aid Society of San Diego, Inc | CA | CA-14 | 3,236,493
California Rural Legal Assistance, Inc | CA | MCA | 4,082,796
California Rural Legal Assistance, Inc | CA | CA-31 | 5,486,604
Bay Area Legal Aid | CA | CA-28 | 4,812,036
Community Legal Aid SoCal | CA | CA-19 | 4,047,361
Colorado Legal Services | CO | MCO | 286,935
Colorado Legal Services | CO | CO-6 | 5,294,268
Colorado Legal Services | CO | NCO-1 | 125,898
Statewide Legal Services of Connecticut, Inc | CT | CT-1 | 3,604,944
Pine Tree Legal Assistance, Inc | CT | NCT-1 | 20,524
Neighborhood Legal Services Program of the District of Columbia | DC | DC-1 | 958,849
Legal Services Corporation of Delaware, Inc | DE | DE-1 | 1,096,589
Community Legal Services of Mid-Florida, Inc | FL | FL-15 | 5,829,486
Florida Rural Legal Services, Inc | FL | MFL | 931,254
Florida Rural Legal Services, Inc | FL | FL-17 | 4,925,012
Legal Services of Greater Miami, Inc | FL | FL-5 | 4,342,324
Legal Services of North Florida, Inc | FL | FL-13 | 2,126,279
Bay Area Legal Services, Inc | FL | FL-16 | 4,525,544
Three Rivers Legal Services, Inc | FL | FL-14 | 2,761,351
Coast to Coast Legal Aid of South Florida, Inc | FL | FL-18 | 2,781,169
Atlanta Legal Aid Society, Inc | GA | GA-1 | 4,272,205
Georgia Legal Services Program | GA | MGA | 636,797
Georgia Legal Services Program | GA | GA-2 | 9,641,970
Micronesian Legal Services Corporation | GU | GU-1 | 379,663
Legal Aid Society of Hawaii | HI | HI-1 | 1,569,437
Legal Aid Society of Hawaii | HI | NHI-1 | 300,295
Iowa Legal Aid | IA | MIA | 277,107
Iowa Legal Aid | IA | IA-3 | 3,340,910
Idaho Legal Aid Services, Inc | ID | MID | 397,355
Idaho Legal Aid Services, Inc | ID | ID-1 | 1,678,307
Idaho Legal Aid Services, Inc | ID | NID-1 | 85,169
Legal Aid Chicago | IL | MIL | 258,049
Legal Aid Chicago | IL | IL-6 | 6,847,162
Land of Lincoln Legal Aid, Inc | IL | IL-3 | 3,235,564
Prairie State Legal Services, Inc | IL | IL-7 | 4,704,051
Indiana Legal Services, Inc | IN | MIN | 182,793
Indiana Legal Services, Inc | IN | IN-5 | 8,033,908
Kansas Legal Services, Inc | KS | KS-1 | 3,422,879
Legal Aid of the Bluegrass | KY | KY-10 | 1,875,216
Legal Aid Society | KY | KY-2 | 1,626,434
Appalachian Research and Defense Fund of Kentucky | KY | KY-5 | 2,034,023
Kentucky Legal Aid | KY | KY-9 | 1,634,026
Acadiana Legal Service Corporation | LA | LA-15 | 4,576,430
Southeast Louisiana Legal Services Corporation | LA | LA-13 | 4,200,841
Volunteer Lawyers Project of the Boston Bar Association | MA | MA-11 | 2,572,654
South Coastal Counties Legal Services | MA | MA-12 | 1,202,327
Northeast Legal Aid, Inc | MA | MA-4 | 977,871
Community Legal Aid, Inc | MA | MA-10 | 1,795,171
Maryland Legal Aid | MD | MDE | 30,126
Maryland Legal Aid | MD | MMD | 135,936
Maryland Legal Aid | MD | MD-1 | 5,500,975
Pine Tree Legal Assistance, Inc | ME | MMX-1 | 351,873
Pine Tree Legal Assistance, Inc | ME | ME-1 | 1,402,327
Pine Tree Legal Assistance, Inc | ME | NME-1 | 84,496
Michigan Advocacy Program | MI | MMI | 641,887
Michigan Advocacy Program | MI | MI-12 | 2,095,335
Legal Services of Eastern Michigan | MI | MI-14 | 1,987,273
Lakeshore Legal Aid | MI | MI-13 | 5,118,956
Legal Services of Northern Michigan, Inc | MI | MI-9 | 950,069
Legal Aid of Western Michigan | MI | MI-15 | 2,646,992
Michigan Indian Legal Services, Inc | MI | NMI-1 | 215,802
Legal Aid Service of Northeastern Minnesota | MN | MN-1 | 506,508
Central Minnesota Legal Services, Inc | MN | MN-6 | 1,960,026
Legal Services of Northwest Minnesota Corporation | MN | MN-4 | 428,414
Southern Minnesota Regional Legal Services, Inc | MN | MMN | 493,225
Southern Minnesota Regional Legal Services, Inc | MN | MN-5 | 1,850,944
Anishinabe Legal Services, Inc | MN | NMN-1 | 313,290
Legal Aid of Western Missouri | MO | MMO | 190,518
Legal Aid of Western Missouri | MO | MO-3 | 2,620,383
Legal Services of Eastern Missouri, Inc. | MO | MO-4 | 2,328,178
Mid-Missouri Legal Services Corporation | MO | MO-5 | 653,868
Legal Services of Southern Missouri | MO | MO-7 | 2,363,915
Micronesian Legal Services Corporation | MP | MP-1 | 1,904,025
North Mississippi Rural Legal Services, Inc | MS | MS-9 | 2,205,139
Mississippi Center for Legal Services | MS | MS-10 | 3,434,943
Mississippi Center for Legal Services | MS | NMS-1 | 108,972
Montana Legal Services Association | MT | MMT | 160,704
Montana Legal Services Association | MT | MT-1 | 1,236,027
Montana Legal Services Association | MT | NMT-1 | 208,737
Legal Aid of North Carolina, Inc | NC | MNC | 731,719
Legal Aid of North Carolina, Inc | NC | NC-5 | 13,948,567
Legal Aid of North Carolina, Inc | NC | NNC-1 | 286,107
Southern Minnesota Regional Legal Services, Inc | ND | MND | 129,152
Legal Services of North Dakota | ND | ND-3 | 698,105
Legal Services of North Dakota | ND | NND-3 | 353,132
Legal Aid of Nebraska | NE | MNE | 221,082
Legal Aid of Nebraska | NE | NE-4 | 1,746,287
Legal Aid of Nebraska | NE | NNE-1 | 43,333
603 Legal Aid | NH | NH-1 | 980,664
Legal Services of Northwest Jersey, Inc | NJ | NJ-15 | 657,622
South Jersey Legal Services, Inc | NJ | MNJ | 161,211
South Jersey Legal Services, Inc | NJ | NJ-20 | 2,619,734
Northeast New Jersey Legal Services Corporation | NJ | NJ-18 | 2,175,086
Essex-Newark Legal Services Project, Inc | NJ | NJ-8 | 1,127,515
Central Jersey Legal Services, Inc | NJ | NJ-17 | 1,713,141
DNA-Peoples Legal Services, Inc | NM | NM-1 | 261,449
DNA-Peoples Legal Services, Inc | NM | NNM-2 | 29,784
New Mexico Legal Aid | NM | MNM | 192,521
New Mexico Legal Aid | NM | NM-5 | 3,498,879
New Mexico Legal Aid | NM | NNM-4 | 609,114
Nevada Legal Services, Inc | NV | NV-1 | 4,019,943
Nevada Legal Services, Inc | NV | NNV-1 | 174,321
Legal Aid Society of Northeastern New York, Inc | NY | NY-21 | 1,818,420
Neighborhood Legal Services, Inc | NY | NY-24 | 1,656,510
Nassau/Suffolk Law Services Committee, Inc | NY | NY-7 | 1,731,065
Legal Services NYC | NY | NY-9 | 13,709,652
Legal Assistance of Western New York, Inc | NY | NY-23 | 2,249,920
Legal Aid Society of Mid-New York, Inc | NY | MNY | 349,647
Legal Aid Society of Mid-New York, Inc | NY | NY-22 | 2,274,110
Legal Services of the Hudson Valley | NY | NY-20 | 2,338,529
Community Legal Aid Services, Inc | OH | OH-20 | 2,568,674
Legal Aid Society of Greater Cincinnati | OH | OH-18 | 2,153,855
The Legal Aid Society of Cleveland | OH | OH-21 | 2,942,674
Ohio State Legal Services | OH | OH-24 | 4,238,651
Legal Aid of Western Ohio, Inc | OH | MOH | 224,627
Legal Aid of Western Ohio, Inc | OH | OH-23 | 3,597,605
Oklahoma Indian Legal Services, Inc | OK | NOK-1 | 1,073,383
Legal Aid Services of Oklahoma, Inc | OK | MOK | 308,668
Legal Aid Services of Oklahoma, Inc | OK | OK-3 | 5,866,156
Legal Aid Services of Oregon | OR | MOR | 575,863
Legal Aid Services of Oregon | OR | OR-6 | 4,408,700
Legal Aid Services of Oregon | OR | NOR-1 | 242,000
Philadelphia Legal Assistance Center | PA | MPA | 434,189
Philadelphia Legal Assistance Center | PA | PA-1 | 3,697,584
Laurel Legal Services, Inc | PA | PA-5 | 874,573
MidPenn Legal Services, Inc | PA | PA-25 | 3,229,064
Neighborhood Legal Services Association | PA | PA-8 | 1,761,195
North Penn Legal Services, Inc | PA | PA-24 | 2,575,311
Southwestern Pennsylvania Legal Services, Inc | PA | PA-11 | 557,300
Northwestern Legal Services | PA | PA-26 | 923,958
Legal Aid of Southeastern Pennsylvania | PA | PA-23 | 1,720,307
Puerto Rico Legal Services, Inc | PR | MPR | 64,846
Puerto Rico Legal Services, Inc | PR | PR-1 | 14,185,024
Community Law Office, Inc | PR | PR-2 | 331,814
Rhode Island Legal Services, Inc | RI | RI-1 | 1,159,621
South Carolina Legal Services, Inc | SC | MSC | 285,548
South Carolina Legal Services, Inc | SC | SC-8 | 7,051,259
East River Legal Services | SD | SD-2 | 508,947
Dakota Plains Legal Services, Inc | SD | SD-4 | 570,745
Dakota Plains Legal Services, Inc | SD | NSD-1 | 1,224,027
Legal Aid of East Tennessee | TN | TN-9 | 3,157,543
Memphis Area Legal Services, Inc | TN | TN-4 | 1,722,132
Legal Aid Society of Middle Tennessee and the Cumberlands | TN | TN-10 | 3,832,310
West Tennessee Legal Services, Inc | TN | TN-7 | 817,895
Legal Aid of NorthWest Texas | TX | TX-14 | 11,241,514
Lone Star Legal Aid | TX | TX-13 | 14,717,956
Texas RioGrande Legal Aid, Inc | TX | MSX-2 | 3,035,532
Texas RioGrande Legal Aid, Inc | TX | TX-15 | 13,869,443
Texas RioGrande Legal Aid, Inc | TX | NTX-1 | 41,029
Utah Legal Services, Inc | UT | MUT | 113,712
Utah Legal Services, Inc | UT | UT-1 | 2,865,302
Utah Legal Services, Inc | UT | NUT-1 | 107,850
Legal Services of Northern Virginia, Inc | VA | VA-20 | 2,088,666
Southwest Virginia Legal Aid Society, Inc | VA | VA-15 | 1,029,221
Legal Aid Society of Eastern Virginia | VA | VA-16 | 1,743,146
Central Virginia Legal Aid Society, Inc | VA | MVA | 326,709
Central Virginia Legal Aid Society, Inc | VA | VA-18 | 1,518,423
Virginia Legal Aid Society, Inc | VA | VA-17 | 995,887
Blue Ridge Legal Services, Inc | VA | VA-19 | 1,011,891
Legal Services of the Virgin Islands, Inc | VI | VI-1 | 250,189
Legal Services Vermont | VT | VT-1 | 584,593
Northwest Justice Project | WA | MWA | 1,069,875
Northwest Justice Project | WA | WA-1 | 6,664,038
Northwest Justice Project | WA | NWA-1 | 373,443
Legal Action of Wisconsin, Inc | WI | MWI | 496,244
Legal Action of Wisconsin, Inc | WI | WI-5 | 4,584,046
Wisconsin Judicare, Inc | WI | WI-2 | 1,184,081
Wisconsin Judicare, Inc | WI | NWI-1 | 203,355
Legal Aid of West Virginia, Inc | WV | WV-5 | 2,952,060
Legal Aid of Wyoming, Inc | WY | WY-4 | 603,100
Legal Aid of Wyoming, Inc | WY | NWY-1 | 226,535

These grants will be awarded under the authority conferred on LSC by section 1006(a)(1) of the Legal Services Corporation Act, 42 U.S.C. 2996e(a)(l). Grant awards are made to ensure civil legal services are provided in every service area, although no listed organization is guaranteed a grant award. Grants will become effective, and grant funds will be distributed, on or about January 1, 2023.

LSC issues this notice pursuant to 42 U.S.C. 2996f(f). Comments and recommendations concerning potential grantees are invited and should be delivered to LSC within 30 days from the date of publication of this notice.

Dated: November 2, 2022.
Stefanie Davis,
Senior Associate General Counsel for Regulations.

[FR Doc. 2022-24261 Filed 11-7-22; 8:45 am]

BILLING CODE 7050-01-P